SECURITIES AND EXCHANGE COMMISSION

17 CFR Part 200

[Release No. 34-46667]

Delegation of Authority to the Director of the Division of Market Regulation

AGENCY: Securities and Exchange Commission.

ACTION: Final rule.

SUMMARY: The Securities and Exchange Commission (“Commission”) is amending its rules to delegate authority to the Director of the Division of Market Regulation (“Director”) to publish acknowledgments of receipt of notices filed with the Commission pursuant to Section 6(g) of the Securities Exchange Act of 1934 (“Exchange Act”) by exchanges registering as national securities exchanges to trade security futures products. This delegation of authority will facilitate the timely publication of such acknowledgments, which is required by Section 6(g)(3) of the Exchange Act.

EFFECTIVE DATE: October 23, 2002.

FOR FURTHER INFORMATION CONTACT: Jennifer Colihan, Special Counsel, at (202) 942-0735 or Mia Zur, Law Clerk, at (202) 942-7309, Office of Market Supervision, Division of Market Regulation, Securities and Exchange Commission, 450 Fifth Street, NW., Washington, DC 20549-1001.

SUPPLEMENTARY INFORMATION: The Commission is adopting an amendment to Rule 30-3 of its Rules of Organization and Program Management governing Delegations of Authority to the Director.¹ The Commission is adding paragraph (a)(77) to Rule 30-3 to authorize the Director to publish acknowledgments of receipt of notices of registration submitted pursuant to Section 6(g) of the Exchange Act.²

¹ 17 CFR 200.30-3.

² 15 U.S.C. 78f(g).

Section 6(g) of the Exchange Act provides that an exchange may register as a national securities exchange solely for the purposes of trading security futures products by filing a written notice with the Commission if the exchange is designated as a contract market by the Commodity Futures Trading Commission or is registered as a derivative transaction execution facility under Section 5a of the Commodity Exchange Act. Rule 6a-4 under the Exchange Act provides that an exchange wishing to become registered under Section 6(g) must provide written notice on Form 1-N. Pursuant to Section 6(g)(2)(B) of the Exchange Act, such registrations are effective contemporaneously with the submission of the written notice.³ Section 6(g)(3) of the Exchange Act directs the Commission to promptly publish acknowledgments of receipt of all such notices in the Federal Register. This delegation of authority to the Director is intended to conserve Commission resources by permitting the Division of Market Regulation to publish acknowledgments of receipt of Form 1-N. Nevertheless, the staff may submit matters to the Commission for consideration as it deems appropriate.

³ 15 U.S.C. 78f(g)(2)(B).

The Commission finds, in accordance with Section 553(b)(3)(A) of the Administrative Procedures Act,⁴ that these amendments relate solely to agency organization, procedure, or practice, and do not relate to a substantive rule. Accordingly, notice, opportunity for public comment, and publication of the amendment prior to its effective date are unnecessary.

⁴ 5 U.S.C. 553(b)(3)(A).

List of Subjects in 17 CFR Part 200

Administrative practice and procedure, Authority delegations (Government agencies), Organization and functions (Government agencies).

Text of Amendment

In accordance with the preamble, the Commission hereby amends Title 17, Chapter II of the Code of Federal Regulations as follows:

PART 200—ORGANIZATION; CONDUCT AND ETHICS; AND INFORMATION AND REQUESTS

Subpart A—Organization and Program Management

1. The authority citation for Part 200, subpart A, continues to read, in part, as follows:

Authority: 15 U.S.C. 77s, 78d-1, 78d-2, 78w, 78ll(d), 78mm, 79t, 77sss, 80a-37, 80b-11, unless otherwise noted.

* * * * *

2. Section 200.30-3 is amended by adding paragraph (a)(77) to read as follows:

§ 200.30-3 Delegation of authority to Director of Division of Market Regulation.

* * * * *

(a) * * *

(77) Pursuant to Section 6(g)(3) of the Act, 15 U.S.C. 78f(g)(3), to publish acknowledgement of receipt of a notice of registration as a national securities exchange for the sole purpose of trading security futures products under Section 6(g) of the Act and Rule 6a-4 of the Act (17 CFR 240.6a-4).

* * * * *

By the Commission.
Dated: October 16, 2002.
Margaret H. McFarland,
Deputy Secretary.

[FR Doc. 02-26883 Filed 10-22-02; 8:45 am]

BILLING CODE 8010-01-P